DEPARTMENT OF COMMERCE

National Oceanic and Atmospheric Administration

50 CFR Part 622

RIN 0648-BB26

Fisheries of the Caribbean, Gulf of Mexico and South Atlantic; Comprehensive Ecosystem-Based Amendment 2

AGENCY: National Marine Fisheries Service (NMFS), National Oceanic and Atmospheric Administration (NOAA), Commerce.

ACTION: Notice of availability; request for comments.

SUMMARY: The South Atlantic Fishery Management Council (Council) has submitted the Comprehensive Ecosystem-Based Amendment (CE-BA 2) for review, approval, and implementation by NMFS. Management actions proposed in CE-BA 2 include modification to the management of octocorals in Federal waters as well as removing the octocorals off Florida from the octocoral fishery management unit (FMU), and establishing an annual catch limit (ACL) of zero for octocorals in the revised FMU. In the Special Management Zones (SMZs) off South Carolina CE-BA 2 would limit the harvest for snapper-grouper and coastal migratory pelagic species to the recreational bag limit. CE-BA 2 would also modify sea turtle release gear requirements for the snapper-grouper fishery. Additionally, CE-BA 2 would amend selected South Atlantic Council Fishery Management Plans (FMPs) to revise or designate new essential fish habitat (EFH) and EFH-Habitat Areas of Particular Concern (EFH-HAPCs).

DATES: Written comments must be received no later than 5 p.m., eastern time, on November 25, 2011.

ADDRESSES: You may submit comments, identified by “NOAA-NMFS-2011-0219”, by any one of the following methods:

• Electronic Submissions: Submit all electronic public comments via the Federal e-Rulemaking Portal: http://www.regulations.gov. Follow the instructions for submitting comments.

• Mail: Karla Gore, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment,” then enter “NOAA-NMFS-2011-0219” in the keyword search and click on “search”. To view posted comments during the comment period, enter “NOAA-NMFS-2011-0219” in the keyword search and click on “search”. NMFS will accept anonymous comments (enter N/A in the required field if you wish to remain anonymous). You may submit attachments to electronic comments in Microsoft Word, Excel, WordPerfect, or Adobe PDF file formats only.

Comments received through means not specified in this notice will not be accepted.

Electronic copies of the amendment may be obtained from the Southeast Regional Office Web site at http://sero.nmfs.noaa.gov.

FOR FURTHER INFORMATION CONTACT: Karla Gore, telephone: 727-824-5305; fax: 727-824-5308; e-mail: Karla.Gore@noaa.gov.

SUPPLEMENTARY INFORMATION: CE-BA 2 includes amendments to the following South Atlantic FMPs: the FMP for Coral, Coral reefs, and Live/Hard Bottom Habitats of the South Atlantic Region (Coral FMP); the FMP for Sargassum of the South Atlantic Region (Sargassum FMP); and the FMP for the Snapper-Grouper Fishery of the South Atlantic Region (Snapper-Grouper FMP), as prepared and submitted by the Council. CE-BA 2 also includes an amendment to the FMP for the Coastal Migratory Pelagic (CMP) Resources in the Atlantic and Gulf of Mexico (CMP FMP), as prepared and submitted by the Council and the Gulf of Mexico Fishery Management Council (Gulf Council).

The fisheries for CMP species; coral, coral reefs, and live/hard bottom habitats; and snapper-grouper off the southern Atlantic states are managed under their respective FMPs. The Coral, Snapper-Grouper and Sargassum FMPs were prepared by the Council. The CMP FMP was jointly prepared by the Council and the Gulf Council. All FMPs are implemented under the authority of the Magnuson-Stevens Fishery Conservation and Management Act (Magnuson-Stevens Act) by regulations at 50 CFR part 622. The Magnuson-Stevens Act also requires that NMFS, upon receiving a plan or amendment, publish an announcement in the Federal Register notifying the public that the plan or amendment is available for review and comment.

Background

Magnuson-Stevens Act requires that for stocks determined by the Secretary of Commerce to not be subject to overfishing, ACLs must be specified in 2011. These ACLs shall be established at a level that prevents overfishing from occurring, and does not exceed the fishing level recommendation of the respective Council's Scientific and Statistical Committee or other established peer review processes.

An ACL is the level of annual catch of a stock or stock complex that is set to prevent overfishing from occurring. An ACL that is reached may serve as the basis for triggering an accountability measure (AM). National Standard 1 Guidelines of the Magnuson-Stevens Act state that AMs may also be implemented to ensure an ACL is not exceeded. ACLs may incorporate management and scientific uncertainty, and take into account the amount of data available and level of vulnerability to overfishing for each species.

Management Measures Contained in This Amendment

CE-BA 2 would modify the FMU for octocorals in the South Atlantic exclusive economic zone (EEZ), establish an ACL of zero for octocorals, limit harvest of snapper-grouper species and CMP resources in the SMZs off South Carolina to the recreational bag limit, and modify sea turtle and small tooth sawfish release gear specifications based on the freeboard height of commercial South Atlantic snapper-grouper vessels. CE-BA 2 also proposes to designate new EFH and EFH-HAPCs to include deep-water Marine Protected Areas for snapper-grouper species, designate deep-water Coral HAPCs as EFH-HAPCs, and designate the top 33 ft (10 m) of the water column in the South Atlantic EEZ bounded by the Gulf Stream as EFH for pelagic Sargassum.

Octocoral FMU

CE-BA 2 would modify the FMU for octocorals under the Coral FMP to only include octocorals in the EEZ off North Carolina, South Carolina, and Georgia. Federal management of octocorals in the EEZ off Florida would no longer be included under the Coral FMP. Florida's Fish and Wildlife Conservation Commission (FWC) is currently responsible for the majority of the management, implementation, and enforcement of octocorals, because the majority of octocoral harvest occurs in Florida state waters. The FWC intends to extend their management of octocorals into the Federal waters off Florida.

Octocoral ACL

CE-BA 2 would specify an ACL of zero for the octocorals remaining in the Coral FMP for the EEZ off Georgia, South Carolina and North Carolina. Currently in the FMP there is a 50,000 colony quota for octocorals in the Gulf of Mexico and South Atlantic region and there is a prohibition to harvest octocorals in the EEZ north of Florida.

SMZ Management off South Carolina

CE-BA 2 proposes management measures to limit the harvest and possession of South Atlantic snapper-grouper species and CMP species (with the use of all non-prohibited fishing gear) in the SMZs off South Carolina to the recreational bag limit. Current Federal regulations prohibit the taking snapper-grouper in the SMZs off South Carolina with a powerhead, and this amendment would also prohibit fishermen from harvesting commercial quantities of snapper-grouper and CMP species in these SMZs. This action would respond to concerns from the recreational sector about the potential for commercial exploitation of these species in the SMZs off South Carolina. SMZs were originally established to enhance recreational fishing opportunities off South Carolina. Modifying the management of the SMZs to restrict commercial fishing effort to the bag limit for snapper-grouper and CMP species would eliminate the harvest of commercial quantities of snapper-grouper and CMP species and would ensure the original intent of the SMZs is realized.

Sea Turtle and Smalltooth Sawfish Release Gear Requirements

CE-BA 2 proposes modifications to the sea turtle and smalltooth sawfish release gear requirements. Fishermen have expressed concern to the Council that the current sea turtle handling and release gear requirements are intended for larger longline vessels using heavy tackle and are ineffective and unwieldy for smaller snapper-grouper hook-and-line vessels. This measure would modify the handling and release requirements based on vessel freeboard height. Fishermen would still be required to comply with all current sea turtle and smalltooth sawfish release guidelines outlined in the NMFS document entitled, “Careful Release Protocols for Sea Turtle Release with Minimal Injury,” however, the specifications of the release gear would be modified.

EFH and EFH-HAPCs

CE-BA 2 would also amend the South Atlantic FMPs as needed to designate new or modify existing EFH and EFH-HAPCs. CE-BA 2 would amend the Snapper-Grouper FMP to designate deep-water MPAs as EFH-HAPCs. These deep-water MPAs were previously established through Amendment 14 to the Snapper-Grouper FMP and include the Snowy Grouper Wreck MPA, Northern South Carolina MPA, Edisto MPA, Charleston Deep Artificial Reef MPA, Georgia MPA, North Florida MPA, St. Lucie Hump MPA, and East Hump MPA. The Coral FMP would be amended to designate deep-water coral HAPCs (CHAPCs) as EFH-HAPCs. These CHAPCs were established under the Comprehensive Ecosystem-Based Amendment 1 and include Cape Lookout Coral HAPC, Cape Fear Coral HAPC, Blake Ridge Diapir Coral HAPC, Stetson-Miami Terrace Coral HAPC, and Pourtalés Terrace Coral HAPC. CE-BA 2 would also designate EFH-HAPCs for blueline and golden tilefish. To meet the Magnuson-Stevens Act requirement that all managed species have EFH designated, CE-BA 2 would amend the Sargassum FMP to designate the top 33 ft (10m) of the water column in the South Atlantic EEZ bounded by the Gulf Stream, as EFH for pelagic Sargassum.

Consideration of Public Comments

A proposed rule that would implement measures outlined in the CE-BA 2 has been received from the Council. In accordance with the Magnuson-Stevens Act, NMFS is evaluating the proposed rule to determine whether it is consistent with the FMPs, the Magnuson-Stevens Act, and other applicable law. If that determination is affirmative, NMFS will publish the proposed rule in the Federal Register for public review and comment.

Comments received by November 25, 2011, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: September 21, 2011.
Emily H. Menashes,
Acting Director, Office of Sustainable Fisheries, National Marine Fisheries Service.

[FR Doc. 2011-24677 Filed 9-23-11; 8:45 am]

BILLING CODE 3510-22-P